ENVIRONMENTAL PROTECTION AGENCY

[FRL-6884-3]

Interagency Project To Clean Up Open Dumps on Tribal Lands: Request for Proposals

AGENCY: Environmental Protection Agency (EPA).

ACTION: Notice of availability.

SUMMARY: The national Tribal Solid Waste Interagency Workgroup (Workgroup) is soliciting proposals for its Tribal Open Dump Cleanup Project (Cleanup Project) for Fiscal Year (FY) 2001. In FY 2000 the Workgroup made $2.4 million available to fund or partially fund eleven proposed projects. The Workgroup believes that a similar dollar amount will be available to fund projects in FY 2001. In selecting Cleanup Project proposals, the Workgroup plans to use a two-step process. The first step is to submit a pre-proposal which generally outlines the proposed project and provides a general budget estimate. This will allow the tribes that are considering submitting full proposals to present their ideas to the Workgroup and receive feedback prior to submitting full proposals. It will also allow the Workgroup agencies to assess and plan for potential financial and technical needs early in the process. The second step of the proposal submission process is to submit a full proposal. Please note that tribes are eligible to submit full proposals even if they do not submit a pre-proposal.

The Cleanup Project is intended to assist tribal communities with closing or upgrading high threat waste disposal sites and providing alternative disposal options. In determining whether a site is high threat, the Workgroup will generally rely on the Indian Health Service's Report to Congress on open dumps on Indian lands. The Workgroup recognizes that an individual tribe may have information on high threat sites that are not included in the IHS Report. To address such sites, the Request for Proposals package includes criteria that allow a tribe to demonstrate that a site represents a serious threat to human health and the environment and should be considered high threat.

The Tribal Solid Waste Interagency Workgroup was established in April 1998 to design a Federal plan for helping tribes bring their waste disposal sites into compliance with the municipal solid waste landfill criteria (40 CFR Part 258), i.e., closing or upgrading open dumps and planning for appropriate alternative disposal. Current Workgroup members include representatives from EPA, the Bureau of Indian Affairs, the Indian Health Service, the Federal Aviation Administration, the National Oceanic and Atmospheric Administration, the U.S. Geological Survey, the Agency for Toxic Substances and Disease Registry, the United States Coast Guard and the Departments of Agriculture, Defense and Housing and Urban Development.

Criteria: Eligible recipients of assistance under the Cleanup Project include federally recognized tribes and multi-tribe 501(c)(3) organizations whose membership consists of federally recognized tribes. A full explanation of the submittal process, the qualifying requirements, and the criteria that will be used to evaluate proposals for this Project may be found in the Request for Proposals package.

DATES: For consideration, pre-proposals must be received by close of business on November 13, 2000 and full proposals must be received by close of business on February 23, 2001.

FOR FURTHER INFORMATION CONTACT: Copies of the Request for Proposals package may be downloaded from the Internet at www.epa.gov/tribalmsw by clicking on “What's New.” Copies may also be obtained by contacting EPA, IHS or BIA regional or area offices or one of the following Workgroup representatives:

EPA—Melanie Barger Garvey, 202-564-2579, Beverly Goldblatt, 703-308-7278, or Tonya Barnett, 703-308-8278.

IHS—Steve Aoyama, 301-443-1046.

BIA—Jerry Gidner, 202-208-5696.

Dated: October 2, 2000.
Elizabeth A. Cotsworth,
Director, Office of Solid Waste.

[FR Doc. 00-26223 Filed 10-11-00; 8:45 am]

BILLING CODE 6560-50-P